NATIONAL SCIENCE FOUNDATION

Committee Management; Notice of Establishment

The Deputy Director of the National Science Foundation has determined that the establishment of the Advisory Committee for GPRA Performance Assessment is necessary and in the public interest in connection with the performance of duties imposed upon the National Science Foundation (NSF), by 42 U.S.C. 1861 et seq. This determination follows consultation with the Committee Management Secretariat, General Services Administration.

Name of Committee: Advisory Committee for GPRA Performance Assessment (#13853).

Purpose: Advise NSF on GPRA planning, procedures and assessment as they relate to the Foundation's long-term strategic outcome goals, and provide NSF with a report that contains recommendations related to GPRA reporting by NSF

Responsible NSF Official: Thomas N. Cooley, Chief Financial Officer, National Science Foundation, 4201 Wilson Boulevard, Suite 405, Arlington, VA 22230. Telephone: 703/292-8200.

Dated: June 24, 2002.
Susanne Bolton,
Committee Management Officer.

[FR Doc. 02-16314 Filed 6-27-02; 8:45 am]

BILLING CODE 7555-01-M